DEPARTMENT OF AGRICULTURE

Forest Service

Information Collection: Secure Rural Schools and Community Self-Determination Act of 2000

AGENCY: Forest Service, USDA.

ACTION: Notice; request for comment.

SUMMARY: In accordance with the Paperwork Reduction Act of 1995, the Forest Service is seeking comments from all interested individuals and organizations on the new information collection, “Secure Rural Schools Act, County Certification of Title III Expenditures.”

DATES: Comments must be received at the address below in writing on or before November 13, 2009 to be assured of consideration. Comments received after that date will be considered to the extent practicable.

ADDRESSES: Comments concerning this notice should be addressed to Rick Alexander, Secure Rural Schools Act National Program Manager, USFS, 10600 N.E. 51st Circle, Vancouver, WA 98682. Comments also may be submitted via facsimile to 360-891-5045 or by e-mail to: secure_rural_schools@fs.fed.us. The public may inspect comments received on the World Wide Web at http://www.fs.fed.us/srs/title-III.shtml.

FOR FURTHER INFORMATION CONTACT: Rick Alexander, phone (360) 891-5162 or e-mail at: secure_rural_schools@fs.fed.us. Individuals who use telecommunication devices for the deaf (TDD) may call the Federal Relay Service (FRS) at 1-800-877-8339.

SUPPLEMENTARY INFORMATION:

Title: Secure Rural Schools Act, County Certification of Title III Expenditures.

OMB Number: 0596—NEW.

Expiration Date of Approval: 3 years from OMB approval date.

Type of Request: New.

Abstract: The Secure Rural Schools and Community Self-Determination Act of 2000 (the Act), as reauthorized in Public Law 110-343 requires the appropriate official of a county that receives funds under Title III of the Act to submit to the respective Secretary (the Secretary of Agriculture or the Secretary of the Interior), an annual certification that funds have been expended for the uses authorized under section 302(a) of the Act.

The appropriate official of each participating county will be required to report the amount of Title III funds expended in the applicable calendar year in these categories, as described in the Act:

(1) To carry out activities under the Firewise Communities program.

(2) To reimburse the participating county for emergency services performed on Federal land and paid for by the participating county.

(3) To develop community wildfire protection plans in coordination with the appropriate Secretary.

This information collection will identify the participating county and the year in which the expenditures were made, and will include the name, title, and signature of the certifying official, and the date of the certification. The certification will include a statement that all expenditures were for proposals that had a publication and comment period, and were submitted to any resource advisory committee for the county, as described in section 302(b) of the Act.

This information will be collected in the form of conventional correspondence such as a letter, and at the respondent's option, attached tables, or similar graphic display. At the respondent's discretion, the information may be submitted by hard copy, and/or electronically scanned, and included as an attachment to electronic mail.

The determination of the appropriate certifying official is at the discretion of the county or borough and will vary depending on county or borough organization. For unorganized boroughs in Alaska, the appropriate State official may provide the information.

The Forest Service, U.S. Department of Agriculture, and the Bureau of Land Management, Department of the Interior, will collect this information from counties that participate in Title III of the State payment made by the Forest Service and the Bureau of Land Management as described in the Act. Under the Act, responses are required by February 1, following each year Title III funds are expended. The first response is required by February 1, 2010, for funds expended in calendar year 2009. Because the authority to obligate county funds under Title III expires September 30, 2012, most of the expenditures are expected to be made by the following year, and the certifications concerning those expenditures would be required by February 1, 2014. The information will be reviewed by the respective Secretary, or designee, to verify that participating counties have certified that Title III funds were expended as authorized in the Act.

Estimated Annual Burden per Respondent: The estimated time required for each response is 24 hours per year, including an estimated 20 hours for collection and 4 hours for preparation and submission.

Type of Respondents: Respondents are county officials.

Estimated Annual Number of Respondents: 360.

Estimated Annual Number of Responses per Respondent: 1.

Estimated Total Annual Burden on Respondents: 8,640 hours.

| Counties responding to the USDA Forest Service | Counties responding to the Department of the Interior
Estimated Annual Number of Responses | 344 | 16
Estimated Burden Hours per Response | 24 | 24
Estimated Total Annual Burden Hours | 8,256 | 384

This table includes 13 counties in Oregon that will be required to make separate reports to the Department of Agriculture and to the Department of the Interior because those counties receive separate payments from each Department.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Before including your address, phone number, e-mail address, or other personal identifying information in your comment, you should be aware that your entire comment—including your personal identifying information—may be made publicly available at any time. While you can ask us in your comment to withhold your personal identifying information from public review, we cannot guarantee that we will be able to do so. Comments will be summarized and included in the request for Office of Management and Budget approval of the information collection.

Dated: September 8, 2009.
Hank Kashdan,
Associate Chief, U.S. Forest Service.

[FR Doc. E9-22024 Filed 9-11-09; 8:45 am]

BILLING CODE 3410-11-P